DEPARTMENT OF DEFENSE

Department of the Navy

Privacy Act of 1974; System of Records

AGENCY: Department of the Navy.

ACTION: Notice to alter a system of records.

SUMMARY: The Department of the Navy proposes to alter a system of records notice in its inventory of record systems subject to the Privacy Act of 1974 (5 U.S.C. 552a), as amended.

The alteration consists of adding new categories of individuals covered, i.e., Air Force, Army, and Coast Guard personnel.

DATES: This action will be effective on October 8, 2004, unless comments are received that would result in a contrary determination.

ADDRESSES: Send comments to the Department of the Navy, PA/FOIA Policy Branch, Chief of Naval Operations (DNS-36), 2000 Navy Pentagon, Washington, DC 20350-2000.

FOR FURTHER INFORMATION CONTACT: Mrs. Doris Lama at (202) 685-6545 or DSN 325-6545.

SUPPLEMENTARY INFORMATION: The Department of the Navy's record system notices for records systems subject to the Privacy Act of 1974 (5 U.S.C. 552a), as amended, have been published in the Federal Register and are available from the address above.

The proposed system reports, as required by 5 U.S.C. 552a(r) of the Privacy Act, were submitted on August 26, 2004, to the House Committee on Government Reform, the Senate Committee on Governmental Affairs, and the Office of Management and Budget (OMB) pursuant to paragraph 4c of Appendix I to OMB Circular No. A-130, ‘Federal Agency Responsibilities for Maintaining Records About Individuals,’ dated February 8, 1996, (61 FR 6427, February 20, 1996).

Dated: September 1, 2004.
L. M. Bynum,
Alternate OSD Federal Register Liaison Officer, Department of Defense.

N06150-3

System name:

Naval Health/Dental Research Center Data File (June 6, 2003, 68 FR 35657).

Changes:

System identifier:

Delete entry and replace with ‘NM06150-3’.

System name:

Delete entry and replace with ‘Health/Dental Research Center Data File’.

* * * * *

Categories of individuals covered by the system:

Delete entry and replace with ‘For medical: Navy and Marine Corps personnel on active duty since 1960 to date and civilians taking part in Operation Deep Freeze, 1964 to date; for U.S. Coast Guard, Air Force, and Army personnel on active duty since 1980.

For dental: Navy and Marine Corps personnel on active duty since 1967 to date.’

* * * * *

Purpose(s):

Delete entry and replace with ‘To research, monitor and analyze the types and frequency of medical and dental diseases and illnesses in Navy, Marine Corps, U.S. Coast Guard, Air Force, and Army personnel.’

* * * * *

Storage:

Delete entry and replace with ‘Paper and automated records’.

* * * * *

Retention and disposal:

Delete entry and replace with ‘Research records are permanent. Paper records, if used, are maintained for five years at the activity performing the research and then retired to the Federal Records Center, St. Louis, MO.’

* * * * *

Record source categories:

Delete entry and replace with ‘Information is derived from (a) Medical Treatment Record Systems, including medical, dental, health records, inpatient treatment records and outpatient treatment records, (b) Personnel Records System and Personnel Rehabilitation Support System, (c) Enlisted Master File, (d) information provided by the members themselves on a volunteer basis in response to specific research questionnaires and forms, (e) information provided by the members' peers and superiors, and (f) the Defense Manpower Data Center.’

* * * * *

NM06150-3

System name:

Health/Dental Research Center Data File.

System location:

Naval Medical Research and Development Command, Naval Medical Research Institute, Naval Health Research Center, and/or Naval Dental Research Institute to which individual is assigned. Official mailing addresses are published in the Standard Navy Distribution List available at http://neds.nebt.daps.mil/sndl.htm.

Categories of individuals covered by the system:

For medical: Navy and Marine Corps personnel on active duty since 1960 to date and civilians taking part in Operation Deep Freeze, 1964 to date; for U.S. Coast Guard, Air Force, and Army personnel on active duty since 1980.

For dental: Navy and Marine Corps personnel on active duty since 1967 to date.

Categories of records in the system:

Extracts of information from official medical/dental and personnel records, results of dental examinations conducted by staff research scientists, as well as information dealing with biographical, attitudes, and questions relating to medical and dental health patterns during active service or prior to active duty.

Authority for maintenance of the system:

10 U.S.C. 5013, Secretary of the Navy; 10 U.S.C. 3013, Secretary of the Army; 10 U.S.C. 8013, Secretary of the Air Force; 10 U.S.C. 5041, Headquarters, Marine Corps; 14 U.S.C. 93, Commandant, U.S. Coast Guard General Powers; and E.O. 9397 (SSN).

Purpose(s):

To research, monitor and analyze the types and frequency of medical and dental diseases and illnesses in Navy, Marine Corps, U.S. Coast Guard, Air Force, and Army personnel.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ that appear at the beginning of the Navy's compilation of systems of records notices apply to this system.

Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.

Policies and practices for storing, retrieving, accessing, retaining, and disposing of records in the system:

Storage:

Paper and automated records.

Retrievability:

Retrievability is by Social Security Number or service number as appropriate for military and former military personnel. Civilians are by name only.

Safeguards:

Access is restricted to personnel having a need to work with the research data stored. Access is controlled by password for health records stored on magnetic tape. Computerized dental research records contain I.D. numbers that can be matched to Social Security Number's on code sheets maintained by research personnel.

Retention and disposal:

Research records are permanent. Paper records, if used, are maintained for five years at the activity performing the research and then retired to the Federal Records Center, St. Louis, MO.

System manager(s) and address:

Commanding Officer of the activity in question. Official mailing addresses are published in the Standard Navy Distribution List available at http://neds.nebt.daps.mil/sndl.htm.

Notification procedure:

Individuals seeking to determine whether information about themselves is contained in this system should address written inquiries to the Commanding Officer of the activity in question.

Official mailing addresses are published in the Standard Navy Distribution List that is available at http://neds.nebt.daps.mil/sndl.htm.

Navy, Marine Corps, U.S. Coast Guard, Air Force, and Army personnel and former serving members must provide a Social Security Number or service number as appropriate, give the branch of service, and years of active duty. Civilians in Operation Deep Freeze must identify themselves by full name and the year in which they wintered over.

Record access procedures:

Individuals seeking access to information about themselves contained in this system should address written inquiries to the Commanding Officer of the activity in question.

Official mailing addresses are published in the Standard Navy Distribution List available at http://neds.nebt.daps.mil/sndl.htm.

Navy, Marine Corps. U.S. Coast Guard, Air Force, and Army personnel and former serving members must provide a Social Security Number or service number as appropriate, give the branch of service, and years of active duty. Civilians in Operations Deep Freeze must identify themselves by full name and the year in which they wintered over.

Contesting record procedures:

The Navy's rules for accessing records, and for contesting contents and appealing initial agency determination are published in Secretary of the Navy Instruction 5211.5; 32 CFR part 701; or may be obtained form the system manager.

Record source categories:

Information is derived form (a) Medical Treatment Record Systems, including medical, dental, health records, inpatient treatment records and outpatient treatment records, (b) Personnel Records System and Personnel Rehabilitation Support System, (c) Enlisted Master File, (d) information provided by the members themselves on a volunteer basis in response to specific research questionnaires and forms, (e) information provided by the members' peers and superiors, and (f) the Defense Manpower Data Center.

Exemptions claimed for the system:

None.

[FR Doc. 04-20278 Filed 9-7-04; 8:45 am]

BILLING CODE 5001-06-M